DEPARTMENT OF THE INTERIOR

Bureau of Land Management

[LLWY910000 L16100000 XX0000]

Notice of Public Meeting; Wyoming Resource Advisory Council

AGENCY: Bureau of Land Management, Interior.

ACTION: Notice of public meeting.

SUMMARY: In accordance with the Federal Land Policy and Management Act and the Federal Advisory Committee Act of 1972, the U.S. Department of the Interior, Bureau of Land Management (BLM) Wyoming Resource Advisory Council (RAC) will meet as indicated below.

DATES: The meetings will be held January 19 (8 a.m.-5 p.m.) and January 20 (8 a.m.-12 p.m.), 2012.

ADDRESSES: The meeting will be at the Bureau of Land Management National Historic Trails Interpretive Center, 1501 North Poplar Street, Casper, WY 82601.

SUPPLEMENTARY INFORMATION: This 10-member RAC advises the Secretary of the Interior on a variety of management issues associated with public land management in Wyoming. Planned agenda topics include an overview of the BLM's planning process, the Casper Resource Management Plan, a panel on Environmental Impact Statement projects and a discussion on cooperating agency involvement. All RAC meetings are open to the public with time allocated for hearing public comments. On January 20, there will be a 30-minute public comment period at 8:30 a.m. The public may also submit written comments to the RAC. Depending on the number of persons wishing to comment and time available, the time for individual oral comments may be limited.

FOR FURTHER INFORMATION CONTACT: Cindy Wertz, Wyoming Resource Advisory Council Coordinator, Wyoming State Office, 5353 Yellowstone, Cheyenne, WY 82009; telephone (307) 775-6014; email cwertz@blm.gov. Persons who use a telecommunications device for the deaf (TDD) may call the Federal Information Relay Service (FIRS) at 1 (800) 877-8339 to contact the above individual during normal business hours. The FIRS is available 24 hours a day, 7 days a week, to leave a message or question with the above individual. You will receive a reply during normal business hours.

Donald A. Simpson,
State Director.

[FR Doc. 2011-32392 Filed 12-16-11; 8:45 am]

BILLING CODE 4310-22-P